DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for the date that sanctions become effective.

FOR FURTHER INFORMATION CONTACT: OFAC: Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List (SDN List) and additional information concerning OFAC sanctions programs are available on OFAC's website (https://www.treasury.gov/ofac).

Notice of OFAC Actions

On March 11, 2020, OFAC determined that the property and interests in property subject to U.S. jurisdiction of the following persons are blocked under the relevant sanctions authorities listed below.

Entities:

1. CORPORATIVO SUSHI PROVI S. DE R.L. DE C.V., Ottawa #1568 Int 4 y 5, Col. Providencia 1A, 2A y 3A, Guadalajara, Jalisco, Mexico; R.F.C. CSP-180321-823 (Mexico) [SDNTK]. Designated pursuant to section 805(b)(3) of the Foreign Narcotics Kingpin Designation Act (Kingpin Act), 21 U.S.C. 1904(b)(3), for being owned, controlled, or directed by, or acting for or on behalf of, KENZO SUSHI, a foreign person designated pursuant to the Kingpin Act.

2. GBJ DE COLIMA, S.A. DE C.V. (a.k.a. ESTACION DE SERVICIO GBJ), Avenida Benito Juarez No. 1039, Col. Villas del Rio, Villa de Alvarez, Colima C.P. 28970, Mexico; R.F.C. GCO070626DY8 (Mexico) [SDNTK]. Designated pursuant to section 805(b)(3) of the Kingpin Act, 21 U.S.C. 1904(b)(3), for being owned, controlled, or directed by, or acting for or on behalf of, Diana Maria SANCHEZ CARLON, a foreign person designated pursuant to the Kingpin Act.

3. INTERNATIONAL INVESTMENTS HOLDING S.A. DE C.V., Guadalajara, Jalisco, Mexico; Folio Mercantil No. 27387 (Mexico) [SDNTK]. Designated pursuant to section 805(b)(3) of the Kingpin Act, 21 U.S.C. 1904(b)(3), for being owned, controlled, or directed by, or acting for or on behalf of, Jeniffer Beaney CAMACHO CAZARES and Abigael GONZALEZ VALENCIA, foreign persons designated pursuant to the Kingpin Act.

4. MASTER REPOSTERIAS Y RESTAURANTES, S.A. DE C.V., Naciones Unidas 6875 B9C, Virreyes Residencial, Zapopan, Jalisco, Mexico; Av. Naciones Unidas 6885 B 9 y B 8, Paseo de los Virreyes, Zapopan, Jalisco 45136, Mexico; R.F.C. MRR151026PW6 (Mexico) [SDNTK]. Designated pursuant to section 805(b)(3) of the Foreign Narcotics Kingpin Designation Act (Kingpin Act), 21 U.S.C. 1904(b)(3), for being owned, controlled, or directed by, or acting for or on behalf of, BAKE AND KITCHEN, a foreign person designated pursuant to the Kingpin Act.

Dated: March 11, 2020.
Bradley T. Smith,
Deputy Director, Office of Foreign Assets Control.

[FR Doc. 2020-05301 Filed 3-13-20; 8:45 am]

BILLING CODE 4810-AL-P